DEPARTMENT OF AGRICULTURE

Rural Housing Service

Notice of Availability of Funds; Multi-Family Housing, Single Family Housing

AGENCY: Rural Housing Service, USDA.

ACTION: Notice.

SUMMARY: The Rural Housing Service, hereinafter referred to as Housing and Community Facilities Programs (HCFP), announces the availability of housing funds for fiscal year (FY) 2008. This action is taken to comply with 42 U.S.C. 1490p, which requires that HCFP publish in the Federal Register notice of the availability of any housing assistance.

DATES: Unless otherwise indicated below, applications are accepted year-round at a local Rural Development office.

Effective Date: March 28, 2008.

FOR FURTHER INFORMATION CONTACT: For information and application assistance contact the appropriate state office from the attached state office listing, or visit our Internet Web site at http://www.offices.usda.gov and select your State. Applicants can also obtain local contact information in a local telephone directory's blue pages under “Rural Development.”

For information regarding this notice contact Myron Wooden, Loan Specialist, Single Family Housing Direct Loan Division, telephone 202-720-4780, for single family housing (SFH) issues and Tammy S. Daniels, Senior Loan Specialist, Multi-Family Housing (MFH) Processing Division, telephone 202-720-0021, for multi-family housing issues, U.S. Department of Agriculture, 1400 Independence Ave., SW., Washington, DC 20250. (The telephone numbers listed are not toll free numbers).

SUPPLEMENTARY INFORMATION: The information in this Notice describes how funds for the various Rural Development HCFP programs are distributed.

Programs Affected

The following programs are subject to the provisions of Executive Order 12372 that requires intergovernmental consultation with State and local officials. These programs or activities are listed in the Catalog of Federal Domestic Assistance under Nos. 10.405 Farm Labor Housing (LH) Loans and Grants.

10.410 Very Low to Moderate Income Housing Loans.

10.411 Rural Housing Site Loans and Self-Help Housing Land Development Loans.

10.415 Rural Rental Housing Loans.

10.417 Very Low Income Housing Repair Loans and Grants.

10.420 Rural Self-Help Housing Technical Assistance.

10.427 Rural Rental Assistance Payments.

10.433 Rural Housing Preservation Grants.

10.442 Housing Application Packaging Grants.

Part 1940, subpart L of 7 CFR contains the “Methodology and Formulas for Allocation of Loan and Grant Program Funds.” To apply for assistance under these programs or for more information, contact the USDA Rural Development Office for your area.

Multi-Family Housing (MFH)

I. General

A. This Notice provides guidance on MFH funding for the Rural Rental Housing program (RRH) for FY 2008. Allocation computations have been performed in accordance with 7 CFR 1940.575 and 1940.578. For FY 2008, State Directors, under the Rural Housing Assistance Grants (RHAG), will have the flexibility to transfer their initial allocations of budget authority between the Single Family Housing (SFH) Section 504 Rural Housing Grants and section 533 Housing Preservation Grant (HPG) programs.

B. MFH loan and grant levels for FY 2008 are as follows:

MFH Loan Programs Credit Sales | $1,475,864
Section 514 Farm Labor Housing (LH) loans* | 27,545,076
Section 515 Rural Rental Housing (RRH) loans | 69,510,000
Section 521 Rental Assistance (RA) and 502(c)(5)(C) Advance | 472,757,370
Section 516 LH grants | 9,930,000
Sections 525 Technical and Supervisory Assistance (TSA) and Section 509 Housing Application Packaging Grants (HAPG) (Shared between single and multi-family housing)* | 0
Section 533 Housing Preservation grants (HPG)** | 9,593,704
Section 538 Guaranteed Rural Rental Housing Program | 129,090,000
Preservation Revolving Loan Fund Demonstration Program* | 6,421,642
Sections 514, 515 and 516 Multi-Family Housing Revitalization Demonstration Program (MPR)*** | 19,860,000
Rural Housing Voucher Demonstration Program* | 4,965,000
* Does Not Include Carryover Funds.
** Includes Carryover Funds.
*** Stated at the budget authority level, rather than at the program level.

II. Funds Not Allocated to States

A. Credit Sales Authority. For FY 2008, $1,475,864 will be made available for credit sales to program and nonprogram buyers. Credit sale funding will not be allocated by State.

B. Section 538 Guaranteed Rural Rental Housing Program. Guaranteed loan funds have been made available under a Notice of Funding Availability (NOFA) published in the Federal Register on February 4, 2008. Additional guidance is provided in the NOFA.

C. Sections 514, 515 and 516 Multi-Family Housing and Revitalization Demonstration Program (MPR) for Fiscal Year 2008. The MPR program is designed to preserve and revitalize Section 515 multi-family rental housing properties and sections 514/516 Off-farm labor housing properties. The program is designed to utilize several demonstration revitalization tools to restructure debt and financing of an aging portfolio of rental properties. The goal of the MPR program is to ensure that properties have sufficient resources to continue providing safe and affordable housing for low-income rural residents.

D. USDA Rural Development Voucher Demonstration Program. The USDA Rural Development Voucher program, authorized under section 542 of the Housing Act of 1949, is designed to provide tenant protections in properties that prepay their mortgages after October 1, 2005. These vouchers are portable and will enable tenants to continue to access affordable housing without benefit of the traditional rental assistance program.

III. Farm Labor Housing (LH) Loans and Grants.

The Administrator has the authority to transfer the allocation of budget authority between the two programs. Upon the closing date of the NOFA, the Administrator will evaluate the responses and determine proper distribution of funds between loans and grants.

A. Section 514 Farm LH Loans

1. These loans are funded in accordance with 7 CFR 1940.579(a).

FY 2008 Appropriation | $27,545,076
Available for Off-Farm Loans | 19,158,807
Available for On-Farm Loans | 2,000,000
National Office Reserve | 6,386,269

2. Off-Farm loan funds have been made available under a NOFA published in the Federal Register on March 12, 2008. Additional guidance is provided in the NOFA.

B. Section 516 Farm LH Grants

1. Grants are funded in accordance with 7 CFR 1940.579(b). Unobligated prior year balances and cancellations will be added to the amount shown.

FY 2008 Appropriation | $9,930,000
Available for LH Grants for Off-Farm | 7,447,500
National Office Reserve | 2,482,500

2. Labor Housing grant funds for Off-Farm have been made available under a NOFA published in the Federal Register on March 12, 2008. Additional guidance is provided in the NOFA.

C. Labor Housing Rental Assistance (RA). It is anticipated that Labor Housing RA will not be available for Fiscal Year 2008.

IV. Section 515 RRH Loan Funds

FY 2008 Section 515 Rural Rental Housing allocation (Total) | $69,510,000
New Construction funds and set-asides | 14,529,124
Non-Restricted | 2,341,200
Set-aside for nonprofits | 6,255,900
Set-aside for underserved counties and colonias | 3,475,500
Set-aside for EZ, EC, or REAP Zones | 1,456,524
State RA designated reserve | 1,000,000
Rehab and repair funds and equity | 40,036,226
Rehab and repair loans | 35,036,226
Designated equity loan reserve | 5,000,000
General Reserve | 14,944,650

A. New Construction Loan Funds. New construction loan funds have been made available using a national NOFA published in the Federal Register on March 12, 2008. Additional guidance is provided in the NOFA.

B. National Office New Construction Set-asides. The following legislatively mandated set-asides of funds are part of the National office set-aside:

1. Nonprofit Set-aside. An amount of $6,255,900 has been set-aside for nonprofit applicants. All nonprofit loan proposals must be located in designated places as defined in 7 CFR 3560.

2. Underserved Counties and Colonias Set-aside. An amount of $3,475,500 has been set aside for loan requests to develop units in the underserved 100 most needy counties or colonias as defined in section 509(f) of the Housing Act of 1949 as amended. Priority will be given to proposals to develop units in colonias or tribal lands.

3. EZ, EC or REAP Zone Set-aside. An amount of $1,456,524 has been set-aside for loan requests to develop units in EZ or EC communities or REAP Zones until June 30, 2008.

C. Designated Reserves for State RA. An amount of $1,000,000 of Section 515 loan funds has been set-aside for matching with projects in which an active State sponsored RA program is available. The State RA program must be comparable to the HCFP RA program.

D. Repair and Rehabilitation Loans. All funds will be held in the National Office and will be distributed based upon rehabilitation needs to projects selected and processed under the FY 2008 MPR NOFA.

E. Designated Reserve for Equity Loans. An amount of $5,000,000 has been designated for the equity loan preservation incentive described in 7 CFR 3560. The $5 million will be further divided into $4 million for equity loan requests currently on the pending funding list and $1 million to facilitate the transfer of properties from for-profit owners to nonprofit corporations and public bodies. Funds for such transfers would be authorized only for for-profit owners who are currently on the pending funding list who agree to transfer to nonprofit corporations or public bodies rather than to remain on the pending list. If insufficient transfer requests are generated to utilize the full $1 million set-aside for nonprofit and public body transfers, the balance will revert to the existing pending equity loan funding list.

F. General Reserve. There is one general reserve fund of $14,944,650. Some examples of immediate allowable uses include, but are not limited to, hardships and emergencies, HCFP cooperatives or group homes, or RRH preservation.

V. Section 533 HPG

Total Available (Includes carryover funds) | $9,593,704.00
Less General Reserve | 957,570.40
Less Set-aside for EZ, EC or REAP Zones | 595,800.00
Total Available for Distribution | 8,040,333.60

See the end of this Notice for HPG state allocations. Fund availability has been announced in a NOFA that was published in the Federal Register on February 20, 2008.

The amount of $595,800 is set-aside for EZ, EC or REAP Zones until June 30, 2008.

Single Family Housing (SFH)

I. General. All SFH programs are administered through field offices. For more information or to make application, please contact the Rural Development office servicing your area. To locate these offices, contact the appropriate state office from the attached state office listing, visit our Web site at: http://www.offices.usda.gov, or search the blue pages in your local telephone directory under “Rural Development” for the office serving your area.

A. This Notice provides SFH allocations for FY 2008. Allocation computations have been made in accordance with 7 CFR 1940.563 through 1940.568. Information on basic formula criteria, data source and weight, administrative allocation, pooling of funds, and availability of the allocation are located on a chart at the end of this notice.

B. The SFH levels authorized for FY 2008 are as follows:

Section 502 Guaranteed Rural Housing (RH) loans:
Nonsubsidized Guarantees—Purchase | $4,958,563,379
Nonsubsidized Guarantees—Refinance | 269,375,804
Section 502 Direct RH Loans* | 1,121,485,933
Credit sales (Nonprogram) | 10,000,000
Section 504 Housing Repair Loans* | 34,409,013
Section 504 Housing Repair Grants*/** | 29,790,000
Section 509 Compensation for Construction Defects** | 0
Section 523 Mutual and Self-help Housing Grants and Contracts*/** | 38,727,000
Section 523 Self-Help Site Loans | 4,965,000
Section 524 RH site Loans | 5,045,000
Section 306C Water and Waste Disposal (WWD) Grants** | 1,000,000
Total available | 6,473,961,129
* Includes funds for EZ/EC and REAP communities until June 30, 2008.
** Carryover funds are not included in the balance.

C. SFH Funding Not Allocated to States. The following funding is not allocated to states by formula. Funds are made available to each state on a case-by-case basis.

1. Credit sale authority. Credit sale funds in the amount of $10,000,000 are available only for nonprogram sales of Real Estate Owned (REO) property.

2. Section 523 Mutual and Self-Help Technical Assistance Grants. $38,727,000 is available for Section 523 Mutual and Self-Help Technical Assistance Grants. Of these funds, $993,000 is set-aside for EZ, EC or REAP Zones until June 30, 2008. A technical review and analysis must be completed by the Technical and Management Assistance (T&MA) contractor on all predevelopment, new, and existing (refunding) grant applications.

3. Section 523 Mutual and Self-Help Site Loans and Section 524 RH Site Loans. $4,965,000 and $5,045,000 are available for Section 523 Mutual Self-Help and Section 524 RH Site loans, respectively.

4. Section 306C WWD Grants to Individuals in Colonias. The objective of the Section 306C WWD individual grant program is to facilitate the use of community water or waste disposal systems for the residents of the colonias along the U.S.-Mexico border.

The total amount available to Arizona, California, New Mexico, and Texas will be $1,000,000 for FY 2008. This amount is transferred from the Rural Utilities Service (RUS) to HCFP for processing individual grant applications.

5. Natural Disaster Funds. Funds are available until exhausted to those states with active Presidential Declarations.

II. State Allocations

A. Section 502 Nonsubsidized Guaranteed RH (GRH) Loans

1. Purchase—Amount Available for Allocation.

Total Available—Purchase | $4,958,563,379
Less National Office General Reserve | 1,090,994,365
Less Special Outreach Area Reserve | 467,569,014
Basic Formula—Administrative Allocation | 3,400,000,000

a. National Office General Reserve. The Administrator may restrict access to this reserve for states not meeting their goals in special outreach areas.

b. Special Outreach Areas. FY 2008 GRH funding is allocated to states in two funding streams. Seventy percent of GRH funds may be used in any eligible area. Thirty percent of GRH funds are to be used in special outreach areas. Special outreach areas for the GRH program are defined as those areas within a state that are not located within a metropolitan statistical area (MSA).

c. National Office Special Area Outreach Reserve. A special outreach area reserve fund has been established at the National Office. Funds from this reserve may only be used in special outreach areas.

2. Refinance—Amount available for allocation.

Total Available—Refinance | $269,375,804
Less National Office General Reserve | 269,375,804
Basic Formula—Administrative Allocation | 0

a. Refinance Funds. Refinance loan funds will be distributed from the National Office on a case-by-case basis.

b. National Office General Reserve. The Administrator may restrict access to this reserve for states not meeting their goals in special outreach areas.

B. Section 502 Direct RH Loans

1. Amount Available for Allocation.

Total Available | $1,121,485,933
Less Required Set-Aside for:
Underserved Counties and Colonias | 56,074,296
EZ, EC and REAP Set-aside | 17,978,388
Less General Reserve | 170,148,593
Administrator's Reserve | 30,000,000
Hardships & Homelessness | 2,000,000
Rural Housing Demonstration Program | 1,000,000
Homeownership Partnership | 112,148,593
Program funds for the sale of REO properties | 25,000,000
Less Designated Reserve for Self-Help | 175,000,000
Basic Formula—Administrative Allocation | 702,284,655

2. Reserves.

a. State Office Reserve. State Directors must maintain an adequate reserve to fund the following applications:

(i) Hardship and homeless applicants including the Direct Section 502 loan and Section 504 loan and grant programs.

(ii) Rural Home Loan Partnerships (RHLP) and Community Development Financial Institutions (CDFI) loans.

(iii) States will leverage with funding from other sources.

(iv) Areas targeted by the state, according to its strategic plan.

b. National Office Reserves.

(i) General Reserve. The National Office has a general reserve of $170.1 million. Of this amount, the Administrator's reserve is $30,000,000. One of the purposes of the Administrator's reserve will be for loans in Indian Country. Indian Country consists of land inside the boundaries of Indian reservations, communities made up mainly of Native Americans, Indian trust and restricted land, and tribal allotted lands. Another purpose of the reserve will be to provide funding for subsequent loans for essential improvements or repairs and transfers with assumptions. The Administrator's reserve may also be made available to states beginning in the 3rd quarter when demand for funds is unusually high.

(ii) Hardship and Homelessness Reserve. $2 million has been set aside for hardships and homeless.

(iii) Rural Housing Demonstration Program. $1 million has been set aside for innovative demonstration initiatives.

(iv) Program Credit Sales. $25 million has been set aside for program sales of REO property.

c. Homeownership Partnership. $112.1 million has been set aside for Homeownership Partnerships. These funds will be used to expand existing partnerships and create new partnerships, such as the following:

(i) Department of the Treasury, Community Development Financial Institutions (CDFI). Funds will be available to fund leveraged loans made in partnership with the Department of Treasury CDFI participants.

(ii) Partnership initiatives established to carry out the objectives of the Rural Home Loan Partnership (RHLP).

d. Designated Reserve for Self-Help. $175 million has been set-aside to assist participating Self-Help applicants. The National Office will contribute 100 percent from the National Office reserve. States are not required to contribute from their allocated Section 502 funds.

e. Underserved Counties and Colonias. An amount of $56,074,296 has been set-aside for the 100 underserved counties and colonias.

f. Empowerment Zone (EZ), Enterprise Community (EC) or Rural Economic Area Partnership (REAP) set-aside. An amount of $17,978,388 has been set-aside until June 30, 2008, for loans in EZ, EC or REAP zones.

g. State Office Pooling. If pooling is conducted within a state, it must not take place within the first 30 calendar days of the first, second, or third quarter. (There are no restrictions on pooling in the fourth quarter.)

h. Suballocation by the State Director. The State Director may suballocate to each area office using the methodology and formulas required by 7 CFR part 1940, subpart L. If suballocated to the area level, the Rural Development Manager will make funds available on a first-come, first-served basis to all offices at the field or area level. No field office will have its access to funds restricted without the prior written approval of the Administrator.

C. Section 504 Housing Loans and Grants. Section 504 grant funds are included in the Rural Housing Assistance Grant program (RHAG) in the FY 2008 appropriation.

1. Amount available for allocation.

Section 504 Loans
Total Available | $34,409,013
Less 5% for 100 Underserved Counties and Colonias | 1,720,450
EZ, EC or REAP Zone Set-aside | 627,666
Less General Reserve | 733,915
Basic Formula—Administrative Allocation | 31,326,982

Section 504 Grants
Total Available | $29,790,000
Less 5% for 100 Underserved Counties and Colonias | 1,489,500
Less EZ, EC or REAP Set-aside | 595,800
Less General Reserve | 1,649,895
Basic Formula—Administrative Allocation | 26,054,805

2. Reserves and Set-asides.

a. State Office Reserve. State Directors must maintain an adequate reserve to handle all anticipated hardship applicants based upon historical data and projected demand.

b. Underserved Counties and Colonias. $1,720,450 and $1,489,500 have been set-aside for the 100 underserved counties and colonias until June 30, 2008, for the Section 504 loan and grant programs, respectively.

c. Empowerment Zone (EZ) and Enterprise Community (EC) or Rural Economic Area Partnership (REAP) Set-aside (Loan Funds Only). $627,666 and $595,800 have been set-aside through June 30, 2008, for EZ, EC or REAPs for the Section 504 loan and grant programs, respectively.

d. General Reserve. $733,915 for Section 504 loan hardships and $1,649,895 for Section 504 grant extreme hardships have been set-aside in the general reserve. For Section 504 grants, an extreme hardship case is one requiring a significant priority in funding, ahead of other requests, due to severe health or safety hazards, or physical needs of the applicant.

Information on Basic Formula Criteria, Data Source and Weight, Administrative Allocation, Pooling of Funds, and Availability of the Allocation
No. | Description | Section 502 nonsubsidized guaranteed RH loans | Section 502 direct RH loans | Section 504 loans and grants
1 | Basic formula criteria, data source, and weight | See 7 CFR 1940.563(b) | See 7 CFR 1940.565(b) | See 7 CFR 1940.566(b) and 1940.567(b).
2 | Administrative Allocation:
| Western Pacific Area | $4,000,000 | $2,000,000 | $500,000 loan $500,000 grant.
3 | Pooling of funds:
| a. Mid-year pooling | If necessary | If necessary | If necessary.
| b. Year-end pooling | August 14, 2008 | July 17, 2008 | July 17, 2008.
| c. Underserved counties & colonias | N/A | June 30, 2008 | June 30, 2008.
| d. EZ, EC or REAP | N/A | June 30, 2008 | June 30, 2008.
| e. Credit sales | N/A | June 30, 2008 | N/A.
4 | Availability of the allocation:
| a. first quarter | 40 percent | 25 percent | 25 percent.
| b. second quarter | 70 percent | 50 percent | 50 percent.
| c. third quarter | 90 percent | 75 percent | 75 percent.
| d. fourth quarter | 100 percent | 100 percent | 100 percent.

1. Data derived from the 2000 U.S. Census is available on the Web at: http://census.sc.egov.usda.gov.

2. Due to the absence of Census data.

3. All dates are tentative and are for the close of business (COB). Pooled funds will be placed in the National Office reserve and made available administratively. The Administrator reserves the right to redistribute funds based upon program performance.

4. Funds will be distributed cumulatively through each quarter listed until the National Office year-end pooling date.

The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD).

To file a complaint of discrimination write to USDA, Director, Office of Civil Rights, 1400 Independence Avenue, SW., Washington, DC 20250-9410 or call (800) 795-3272 (voice) or (202) 720-6382 (TDD). USDA is an equal opportunity provider, employer, and lender.

Dated: March 20, 2008.
Russell T. Davis,
Administrator, Rural Housing Service.

HCFP Fiscal Year 2008—Section 533—Housing Preservation Grant
[Allocation in Thousands]
State | Formula factor | Total allocation
ALABAMA | 0.02957 | 237,752.66
ALASKA | 0.00587 | 47,196.76
ARIZONA | 0.01780 | 143,117.94
ARKANSAS | 0.02310 | 185,731.71
CALIFORNIA | 0.04653 | 374,116.72
COLORADO | 0.00840 | 67,538.80
DELAWARE | 0.00190 | 15,276.63
MARYLAND | 0.00880 | 70,754.94
FLORIDA | 0.02890 | 232,365.64
VIRGIN ISLANDS | 0.00273 | 21,950.11
GEORGIA | 0.03867 | 310,919.70
HAWAII | 0.00790 | 63,518.64
WPA | 0.00647 | 52,020.96
IDAHO | 0.00743 | 59,739.68
ILLINOIS | 0.02250 | 180,907.51
INDIANA | 0.02157 | 173,430.00
IOWA | 0.01340 | 107,740.47
KANSAS | 0.01130 | 90,855.77
KENTUCKY | 0.03483 | 280,044.82
LOUISIANA | 0.03170 | 254,878.58
MAINE | 0.00913 | 73,408.25
MASSACHUSETTS | 0.00793 | 63,759.85
CONNECTICUT | 0.00453 | 36,422.71
RHODE ISLAND | 0.00100 | 8,040.33
MICHIGAN | 0.02977 | 239,360.73
MINNESOTA | 0.01673 | 134,514.78
MISSISSIPPI | 0.03180 | 255,682.61
MISSOURI | 0.02460 | 197,792.21
MONTANA | 0.00620 | 49,850.07
NEBRASKA | 0.00713 | 57,327.58
NEVADA | 0.00263 | 21,146.08
NEW JERSEY | 0.00657 | 52,824.99
NEW MEXICO | 0.01437 | 115,539.59
NEW YORK | 0.02753 | 221,350.38
NORTH CAROLINA | 0.04497 | 361,573.80
NORTH DAKOTA | 0.00413 | 33,206.58
OHIO | 0.03450 | 277,391.51
OKLAHOMA | 0.01917 | 154,133.20
OREGON | 0.01423 | 114,413.95
PENNSYLVANIA | 0.03687 | 296,447.10
PUERTO RICO | 0.04923 | 395,825.62
SOUTH CAROLINA | 0.02690 | 216,284.97
SOUTH DAKOTA | 0.00597 | 48,000.79
TENNESSEE | 0.02973 | 239,039.12
TEXAS | 0.07645 | 614,683.50
UTAH | 0.00430 | 34,573.43
VERMONT | 0.00403 | 32,402.54
NEW HAMPSHIRE | 0.00503 | 40,442.88
VIRGINIA | 0.02660 | 213,872.87
WASHINGTON | 0.01743 | 140,143.01
WEST VIRGINIA | 0.01937 | 155,741.26
WISCONSIN | 0.01873 | 150,595.45
WYOMING | 0.00307 | 24,683.82
DISTR. | 1.00000 | 8,040,333.60
N/O RES. |  | 957,570.40
EZ/EC/REAP |  | 595,800.00
Ttl Avail. |  | 9,593,704.00

USDA Rural Development State Office Locations—State Directors/HCFP Program Directors
ALABAMA
Steve Pelham, Vann McCloud, Sterling Centre, 4121 Carmichael Road, Suite 601, Montgomery, AL 36106-3683, (334) 279-3400
ALASKA
Chad Padgett, Deborah Davis, Suite 201, 800 W. Evergreen, Palmer, AK 99645-6539, (907) 761-7705
ARIZONA
Eddie Browning, Ernie Wetherbee, Phoenix Corporate Center, 230 North First Avenue, Suite 206, Phoenix, AZ 85003-1706, (602) 280-8755
ARKANSAS
Roy Smith, Lawrence McCullough, Room 3416, 700 W. Capitol, Little Rock, AR 72201-3225, (501) 301-3200
CALIFORNIA
Benjamin Higgins, Bob Anderson, Agency 4169, 430 G Street, Davis, CA 95616-4169, (530) 792-5800
COLORADO
Mike Bennett, Jamie Spakow, Room E100, 655 Parfet Street, Lakewood, CO 80215, (720) 544-2903
DELAWARE & MARYLAND
Marlene B. Elliott, Pat Baker, 1221 College Park Drive, Suite 200, Dover, DE 19904, (302) 857-3625
FLORIDA & VIRGIN ISLANDS
Jennifer Delattibodier (Acting), Daryl Cooper, P.O. Box 147010, 4440 NW. 25th Place, Gainesville, FL 32614-7010, (352) 338-3435
GEORGIA
F. Stone Workman, Douglas Canup, Stephens Federal Building, 355 E. Hancock Avenue, Athens, GA 30601-2768, (706) 546-2162
HAWAII
Lorraine Shin, Donald Etes, Room 311, Federal Building, 154 Waianuenue Avenue, Hilo, HI 96720, (808) 933-8309
IDAHO
Michael A. Field, Roni Atkins, Suite A1, 9173 W. Barnes Dr., Boise, ID 83709, (208) 378-5600
ILLINOIS
Douglas Wilson, Barry Ramsey, 2118 W. Park Court, Suite A, Champaign, IL 61821, (217) 403-6222
INDIANA
Robert White, Paul Neumann, 5975 Lakeside Boulevard, Indianapolis, IN 46278, (317) 290-3100
IOWA
Mark Reisinger, Tim Helmbrecht, Acting, 873 Federal Bldg., 210 Walnut Street, Des Moines, IA 50309, (515) 284-4663
KANSAS
Charles (Chuck) R. Banks, Tim Rogers, 1303 SW. First American Place, Suite 100, Topeka, KS 66604-4040, (785) 271-2700
KENTUCKY
Kenneth Slone, Paul Higgins (Acting), Suite 200, 771 Corporate Drive, Lexington, KY 40503, (859) 224-7322
LOUISIANA
Clyde Holloway, Debbie Redfearn, 3727 Government Street, Alexandria, LA 71302, (318) 473-7920
MAINE
Michael W. Aube, Dale Holmes, P.O. Box 405, 967 Illinois Avenue, Suite 4, Bangor, ME 04402-0405, (207) 990-9118
MASSACHUSETTS/CT/RI
David H. Tuttle, 451 West Street, Amherst, MA 01002, (413) 253-4300
MICHIGAN
Gene DeRossett, Richard Annis, 3001 Coolidge Road, Suite 200, East Lansing, MI 48823, (517) 324-5100
MINNESOTA
Stephen G. Wenzel, Lance Larson, 410 AgriBank Bldg., 375 Jackson Street, St. Paul, MN 55101-1853, (651) 602-7792
MISSISSIPPI
George Irvin, Johnny Jones, Federal Bldg., Suite 831, 100 W. Capitol Street, Jackson, MS 39269, (601) 965-4325
MISSOURI
Anita J. (Janie) Dunning, Acting, Randy Griffith, Parkade Center, Suite 235, 601 Business Loop 70 West, Columbia, MO 65203, (573) 876-9301
MONTANA
Clark Johnson, Debra Chorlton, Suite B, 900 Technology Boulevard, Bozeman, MT 59715, (406) 585-2551
NEBRASKA
Scot Blehm, Byron Fischer, Federal Bldg., Room 152, 100 Centennial Mall N., Lincoln, NE 68508, (402) 437-5551
NEVADA
Larry J. Smith, Bill Brewer, 1390 South Curry Street, Carson City, NV 89703, (775) 887-1222
NEW JERSEY
Andrew (Andy) M.G. Law, George Hyatt, 5th Floor N. Suite 500, 8000 Midlantic Drive, Mt. Laurel, NJ 08054, (856) 787-7700
NEW MEXICO
Ryan Gleason, Art Garcia, Room 255, 6200 Jefferson Street, NE., Albuquerque, NM 87109, (505) 761-4973
NEW YORK
Patrick Brennan, Jennifer Jackson, The Galleries of Syracuse, 441 S. Salina Street, Suite 357, Syracuse, NY 13202-2541, (315) 477-6417
NORTH CAROLINA
John Cooper, Mel Ellis, Suite 260, 4405 Bland Road, Raleigh, NC 27609, (919) 873-2000
NORTH DAKOTA
Clare Carlson, Mark Wax, Federal Bldg., Room 208, 220 East Rooser, P.O. Box 1737, Bismarck, ND 58502-1737, (701) 530-2061
OHIO
Randall Hunt, Gerald Arnott, Federal Bldg., Room 507, 200 N. High Street, Columbus, OH 43215-2477, (614) 255-2500
OKLAHOMA
Brent J. Kisling, Tommy Earls, Suite 108, 100 USDA, Stillwater, OK 74074-2654, (405) 742-1000
OREGON
Mark Simmons, Rod Hansen, 1201 NE. Lloyd Blvd., Suite 801, Portland, OR 97232, (503) 414-3300
PENNSYLVANIA
Gary Groves, Frank Wetherhold, Suite 330, One Credit Union Place, Harrisburg, PA 17110-2996, (717) 237-2299
PUERTO RICO
Jose Otero-Garcia, Pedro Gomez, IBM Building, Suite 601, 654 Munoz Rivera Avenue, San Juan, PR 00936-6106, (787) 766-5095
SOUTH CAROLINA
Tee Miller, Herbert Koon, Strom Thurmond Federal Bldg., 1835 Assembly Street, Room 1007, Columbia, SC 29201, (803) 765-5163
SOUTH DAKOTA
Mike Jaspers, Roger Hazuka, Federal Bldg., Room 210, 200 Fourth Street, SW., Huron, SD 57350, (605) 352-1100
TENNESSEE
Mary (Ruth) Tackett, Donald L. Harris, Suite 300, 3322 W. End Avenue, Nashville, TN 37203-1084, (615) 783-1300
TEXAS
Scooter Brockette, Acting, Scooter Brockette, Federal Bldg., Suite 102, 101 S. Main, Temple, TX 76501, (254) 742-9700
UTAH
John R. Cox, Dave Brown, Wallace F. Bennett Federal Bldg., 125 S. State Street, Room 4311, Salt Lake City, UT 84147, (801) 524-4320
VERMONT & NEW HAMPSHIRE
Jolinda H. LaClair, Bob McDonald, City Center, 3rd Floor, 89 Main Street, Montpelier, VT 05602, (802) 828-6000
VIRGINIA
Ellen M. Davis, James Reid, 1606 Santa Rosa Road, Suite 238, Richmond, VA 23229-5014, (804) 287-1598
WASHINGTON
Jon DeVaney, Robert Lund, Suite B, 1835 Black Lake Blvd., SW. Olympia, WA 98512-5715, (360) 704-7740
WEST VIRGINIA
Rick Rice, Dianne Crysler, Federal Bldg., Room 320, 75 High Street, Morgantown, WV 26505-7500, (304) 284-4860
WISCONSIN
Frank Frassetto, 4949 Kirschling Court, Stevens Point, WI 54481, (715) 345-7600
WYOMING
Del Tinsley, Alan Brooks, Federal Building, Room 1005, 100 East B, P.O. Box 11005, Casper, WY 82602, (307) 233-6700

HCFP—Fiscal Year 2008—Section 502 Direct Rural Housing Loans
[Allocations in thousands]
State | State basic formula factor | Total FY 2008 allocation
ALABAMA | 0.02893348 | $18,168
ALASKA | 0.00623983 | 7,055
ARIZONA | 0.01551438 | 11,597
ARKANSAS | 0.02202430 | 14,785
CALIFORNIA | 0.04281159 | 24,964
COLORADO | 0.01225178 | 9,999
CONNECTICUT | 0.00445853 | 6,183
DELAWARE | 0.00293815 | 5,439
FLORIDA | 0.02769317 | 17,561
GEORGIA | 0.03803061 | 22,623
HAWAII | 0.00623301 | 7,052
IDAHO | 0.00847438 | 8,150
ILLINOIS | 0.02627571 | 16,866
INDIANA | 0.02616726 | 16,813
IOWA | 0.01764334 | 12,639
KANSAS | 0.01336777 | 10,546
KENTUCKY | 0.02807301 | 17,747
LOUISIANA | 0.02361424 | 15,563
MAINE | 0.01109070 | 9,431
MARYLAND | 0.01010209 | 8,947
MASSACHUSETTS | 0.00622585 | 7,049
MICHIGAN | 0.03579346 | 21,527
MINNESOTA | 0.02361828 | 15,565
MISSISSIPPI | 0.02636473 | 16,910
MISSOURI | 0.02809053 | 17,755
MONTANA | 0.00738806 | 7,618
NEBRASKA | 0.00953784 | 8,670
NEVADA | 0.00339314 | 5,662
NEW HAMPSHIRE | 0.00666198 | 7,262
NEW JERSEY | 0.00551402 | 6,700
NEW MEXICO | 0.01296637 | 10,349
NEW YORK | 0.03378933 | 20,546
NORTH CAROLINA | 0.05148079 | 29,209
NORTH DAKOTA | 0.00469453 | 6,299
OHIO | 0.03725173 | 22,241
OKLAHOMA | 0.02019475 | 13,889
OREGON | 0.01654303 | 12,101
PENNSYLVANIA | 0.04269918 | 24,909
PUERTO RICO | 0.00884495 | 10,123
RHODE ISLAND | 0.00090026 | 4,441
SOUTH CAROLINA | 0.02669849 | 17,074
SOUTH DAKOTA | 0.00705037 | 7,452
TENNESSEE | 0.03062418 | 18,996
TEXAS | 0.07365688 | 40,068
UTAH | 0.00500465 | 6,451
VERMONT | 0.00579860 | 6,839
VIRGIN ISLANDS | 0.00217552 | 5,065
VIRGINIA | 0.02711459 | 17,277
WASHINGTON | 0.01939199 | 13,496
WEST PAC ISLANDS | 0.00239453 | 2,000
WEST VIRGINIA | 0.01591004 | 11,791
WISCONSIN | 0.02634031 | 16,898
WYOMING | 0.00393497 | 5,927
State Totals |  | 702,285
100 Underserved Counties/Colonias |  | 56,074
Empowerment Zones and Enterprise Community Set-Aside |  | 17,978
General Reserve |  | 170,149
Self Help |  | 175,000
Total |  | 1,121,485

HCFP—Fiscal Year 2008—Section 502 Direct Rural Housing Loans
[Allocation in thousands]
State | Total FY 2008 allocation | Very low income allocation 45 percent | Low income allocation 55 percent
1 ALABAMA | $18,168 | $8,176 | $9,992
60 ALASKA | 7,055 | 3,175 | 3,880
2 ARIZONA | 11,597 | 5,219 | 6,378
3 ARKANSAS | 14,785 | 6,653 | 8,132
4 CALIFORNIA | 24,964 | 11,234 | 13,730
5 COLORADO | 9,999 | 4,500 | 5,499
6 CONNECTICUT | 6,183 | 2,782 | 3,401
7 DELAWARE | 5,439 | 2,448 | 2,991
9 FLORIDA | 17,561 | 7,902 | 9,659
10 GEORGIA | 22,623 | 10,180 | 12,443
61 HAWAII | 7,052 | 3,173 | 3,879
12 IDAHO | 8,150 | 3,668 | 4,483
13 ILLINOIS | 16,866 | 7,590 | 9,276
15 INDIANA | 16,813 | 7,566 | 9,247
16 IOWA | 12,639 | 5,688 | 6,951
18 KANSAS | 10,546 | 4,746 | 5,800
20 KENTUCKY | 17,747 | 7,986 | 9,761
22 LOUISIANA | 15,563 | 7,003 | 8,560
23 MAINE | 9,431 | 4,244 | 5,187
24 MARYLAND | 8,947 | 4,026 | 4,921
25 MASSACHUSETTS | 7,049 | 3,172 | 3,877
26 MICHIGAN | 21,527 | 9,687 | 11,840
27 MINNESOTA | 15,565 | 7,004 | 8,561
28 MISSISSIPPI | 16,910 | 7,610 | 9,301
29 MISSOURI | 17,755 | 7,990 | 9,765
31 MONTANA | 7,618 | 3,428 | 4,190
32 NEBRASKA | 8,670 | 3,902 | 4,769
33 NEVADA | 5,662 | 2,548 | 3,114
34 NEW HAMPSHIRE | 7,262 | 3,268 | 3,994
35 NEW JERSY | 6,700 | 3,015 | 3,685
36 NEW MEXICO | 10,349 | 4,657 | 5,692
37 NEW YORK | 20,546 | 9,246 | 11,300
38 NORTH CAROLINA | 29,209 | 13,144 | 16,065
40 NORTH DAKOTA | 6,299 | 2,835 | 3,464
41 OHIO | 22,241 | 10,008 | 12,233
42 OKLAHOMA | 13,889 | 6,250 | 7,639
43 OREGON | 12,101 | 5,445 | 6,656
44 PENNSYLVANIA | 24,909 | 11,209 | 13,700
63 PUERTO RICO | 10,123 | 4,555 | 5,568
45 RHODE ISLAND | 4,441 | 1,998 | 2,443
46 SOUTH CAROLINA | 17,074 | 7,683 | 9,391
47 SOUTH DAKOTA | 7,452 | 3,353 | 4,099
48 TENNESSEE | 18,996 | 8,548 | 10,448
49 TEXAS | 40,068 | 18,031 | 22,037
52 UTAH | 6,451 | 2,903 | 3,548
53 VERMONT | 6,839 | 3,078 | 3,761
64 VIRGIN ISLANDS | 5,065 | 2,279 | 2,786
54 VIRGINIA | 17,277 | 7,775 | 9,502
56 WASHINGTON | 13,496 | 6,073 | 7,423
62 WEST PAC ISLANDS | 2,000 | 900 | 1,100
57 WEST VIRGINIA | 11,791 | 5,306 | 6,485
58 WISCONSIN | 16,898 | 7,604 | 9,294
59 WYOMING | 5,927 | 2,667 | 3,260
State Totals | 702,285 | 316,028 | 386,257
100 Underserved Counties/Colonias | 56,074 | 25,233 | 30,841
EZ/EC/REAP Reserve | 17,978 | 8,090 | 9,888
General Reserve | 170,149 | 76,567 | 93,582
Self Help | 175,000 | 78,750 | 96,250
Total | 1,121,485 | 504,668 | 616,817

HCFP—Fiscal Year 2008—Section 502 Guaranteed Purchase Loans (Nonsubsidized)
[Allocation in actual dollars]
State | State basic formula factor | FY 2008 state basic formula allocation | Additional administrative allocation FY 2008 | Total FY 2008 allocation
Alabama | 0.02657575 | $66,439,375 | $0 | $66,439,375
Alaska | 0.00722325 | 18,058,125 | 10,937,359 | 28,995,484
Arizona | 0.01640900 | 41,022,500 | 0 | 41,022,500
Arkansas | 0.02282102 | 57,052,550 | 63,553,262 | 120,605,812
California | 0.05030996 | 125,774,900 | 0 | 125,774,900
Colorado | 0.01357525 | 33,938,125 | 0 | 33,938,125
Connecticut | 0.00408986 | 10,224,650 | 0 | 10,224,650
Delaware | 0.00276106 | 6,902,650 | 1,713,350 | 8,616,000
Florida | 0.02650361 | 66,259,025 | 0 | 66,259,025
Georgia | 0.03793281 | 94,832,025 | 0 | 94,832,025
Hawaii | 0.00796215 | 19,905,375 | 0 | 19,905,375
Idaho | 0.00888491 | 22,212,275 | 5,620,284 | 27,832,559
Illinois | 0.02591265 | 64,781,625 | 129,541,273 | 194,322,898
Indiana | 0.02361952 | 59,048,800 | 0 | 59,048,800
Iowa | 0.01674764 | $41,869,100 | $11,998,164 | $53,867,264
Kansas | 0.01333450 | 33,336,250 | 36,218,726 | 69,554,976
Kentucky | 0.02667768 | 66,694,200 | 38,659,598 | 105,353,798
Louisiana | 0.02306785 | 57,669,625 | 0 | 57,669,625
Maine | 0.01154316 | 28,857,900 | 13,702,932 | 42,560,832
Maryland | 0.00944838 | 23,620,950 | 4,968,254 | 28,589,204
Massachusetts | 0.00620846 | 15,521,150 | 0 | 15,521,150
Michigan | 0.03318174 | 82,954,350 | 98,230,746 | 181,185,096
Minnesota | 0.02265572 | 56,639,300 | 75,312,997 | 131,952,297
Mississippi | 0.02650848 | 66,271,200 | 0 | 66,271,200
Missouri | 0.02830414 | 70,760,350 | 69,488,422 | 140,248,772
Montana | 0.00778549 | 19,463,725 | 17,437,568 | 36,901,293
Nebraska | 0.00963559 | 24,088,975 | 4,998,792 | 29,087,767
Nevada | 0.00373060 | 9,326,500 | 0 | 9,326,500
New Hampshire | 0.00696793 | 17,419,825 | 0 | 17,419,825
New Jersey | 0.00489407 | 12,235,175 | 4,339,860 | 16,575,035
New Mexico | 0.01349689 | 33,742,225 | 0 | 33,742,225
New York | 0.03640605 | 91,015,125 | 0 | 91,015,125
North Carolina | 0.05076681 | 126,917,025 | 0 | 126,917,025
North Dakota | 0.00440032 | 11,000,800 | 2,080,579 | 13,081,379
Ohio | 0.03518978 | 87,974,450 | 2,418,898 | 90,393,348
Oklahoma | 0.02008600 | 50,215,000 | 10,401,466 | 60,616,466
Oregon | 0.01909631 | 47,740,775 | 0 | 47,740,775
Pennsylvania | 0.04089133 | 102,228,325 | 0 | 102,228,325
Puerto Rico | 0.00919939 | 22,998,475 | 131,612,371 | 154,610,846
Rhode Island | 0.00075627 | 1,890,675 | 0 | 1,890,675
South Carolina | 0.02526494 | 63,162,350 | 0 | 63,162,350
South Dakota | 0.00751015 | 18,775,375 | 53,138,707 | 71,914,082
Tennessee | 0.02902148 | 72,553,700 | 45,526,777 | 118,080,477
Texas | 0.07276234 | 181,905,850 | 0 | 181,905,850
Utah | 0.00510515 | 12,762,875 | 11,985,564 | 24,748,439
Vermont | 0.00663633 | 16,590,825 | 0 | 16,590,825
Virgin Islands | 0.00306743 | 7,668,575 | 0 | 7,668,575
Virginia | 0.02554389 | 63,859,725 | 37,186,762 | 101,046,487
Washington | 0.02205374 | 55,134,350 | 0 | 55,134,350
West Pac | N/A | 0 | 8,298,821 | 8,298,821
West Virginia | 0.01502432 | 37,560,800 | 8,274,490 | 45,835,290
Wisconsin | 0.02575423 | 64,385,575 | 9,211,203 | 73,596,778
Wyoming | 0.00395173 | 9,879,325 | 0 | 9,879,325
State Totals |  |  |  | 3,400,000,000
General Reserve |  |  |  | 1,090,994,365
Special Outreach Areas Reserve |  |  |  | 467,569,014
Total |  |  |  | 4,958,563,379
**Total includes FY 2007 Carryover and Rescission.

HCFP—Fiscal Year 2008—Section 502 Guaranteed Refinance Loans (Nonsubsidized)
[Allocation in actual dollars]
State | State basic formula factor | Total FY 2008 allocation
Alabama | N/A | $0
Alaska | N/A | 0
Arizona | N/A | 0
Arkansas | N/A | 0
California | N/A | 0
Colorado | N/A | 0
Connecticut | N/A | 0
Delaware | N/A | 0
Florida | N/A | 0
Georgia | N/A | 0
Hawaii | N/A | 0
Idaho | N/A | 0
Illinois | N/A | 0
Indiana | N/A | 0
Iowa | N/A | 0
Kansas | N/A | 0
Kentucky | N/A | 0
Louisiana | N/A | 0
Maine | N/A | 0
Maryland | N/A | 0
Massachusetts | N/A | 0
Michigan | N/A | 0
Minnesota | N/A | 0
Mississippi | N/A | 0
Missouri | N/A | 0
Montana | N/A | 0
Nebraska | N/A | 0
Nevada | N/A | 0
New Hampshire | N/A | 0
New Jersey | N/A | 0
New Mexico | N/A | 0
New York | N/A | 0
North Carolina | N/A | 0
North Dakota | N/A | 0
Ohio | N/A | 0
Oklahoma | N/A | 0
Oregon | N/A | 0
Pennsylvania | N/A | 0
Puerto Rico | N/A | 0
Rhode Island | N/A | 0
South Carolina | N/A | 0
South Dakota | N/A | 0
Tennessee | N/A | 0
Texas | N/A | 0
Utah | N/A | 0
Vermont | N/A | 0
Virgin Islands | N/A | 0
Virginia | N/A | 0
Washington | N/A | 0
West Pac | N/A | 0
West Virginia | N/A | 0
Wisconsin | N/A | 0
Wyoming | N/A | 0
State Totals |  | 0
National Office Reserve |  | 269,375,804
Total |  | 269,375,804
** Includes FY 2007 Carryover.

HCFP—Fiscal Year 2008—Section 504 Direct Rural Housing Loans
[Allocation in Thousands]
State | State basic formula factor | Total FY 2008 allocation
1 ALABAMA | 0.02914691 | $903
60 ALASKA | 0.00945161 | 293
2 ARIZONA | 0.02165916 | 671
3 ARKANSAS | 0.02301181 | 713
4 CALIFORNIA | 0.05356026 | 1,659
5 COLORADO | 0.01244796 | 386
6 CONNECTICUT | 0.00301503 | 93
7 DELAWARE | 0.00260858 | 81
9 FLORIDA | 0.02862195 | 887
10 GEORGIA | 0.03870552 | 1,199
61 HAWAII | 0.00914234 | 283
12 IDAHO | 0.00926157 | 287
13 ILLINOIS | 0.02289193 | 709
15 INDIANA | 0.02163577 | 670
16 IOWA | 0.01497537 | 464
18 KANSAS | 0.01252499 | 388
20 KENTUCKY | 0.02699175 | 836
22 LOUISIANA | 0.02658801 | 824
23 MAINE | 0.01004646 | 311
24 MARYLAND | 0.00809012 | 251
25 MASSACHUSETTS | 0.00467784 | 145
26 MICHIGAN | 0.03036170 | 941
27 MINNESOTA | 0.02241926 | 695
28 MISSISSIPPI | 0.02944306 | 912
29 MISSOURI | 0.02649320 | 821
31 MONTANA | 0.00748030 | 232
32 NEBRASKA | 0.00889870 | 276
33 NEVADA | 0.00389431 | 121
34 NEW HAMPSHIRE | 0.00533998 | 165
35 NEW JERSEY | 0.00402807 | 125
36 NEW MEXICO | 0.01723147 | 534
37 NEW YORK | 0.02829025 | 876
38 NORTH CAROLINA | 0.04993409 | 1,547
40 NORTH DAKOTA | 0.00445144 | 138
41 OHIO | 0.03025666 | 937
42 OKLAHOMA | 0.02084848 | 646
43 OREGON | 0.01749746 | 542
44 PENNSYLVANIA | 0.03508076 | 1,087
63 PUERTO RICO | 0.01361295 | 422
45 RHODE ISLAND | 0.00061002 | 19
46 SOUTH CAROLINA | 0.02721728 | 843
47 SOUTH DAKOTA | 0.00727218 | 225
48 TENNESSEE | 0.02874616 | 891
49 TEXAS | 0.08626859 | 2,673
52 UTAH | 0.00539086 | 167
53 VERMONT | 0.00496554 | 154
64 VIRGIN ISLANDS | 0.00348170 | 108
54 VIRGINIA | 0.02455868 | 761
56 WASHINGTON | 0.02114040 | 655
62 WEST PAC ISLANDS | 0.00407807 | 500
57 WEST VIRGINIA | 0.01464971 | 454
58 WISCONSIN | 0.02300364 | 713
59 WYOMING | 0.00397110 | 123
State Totals |  | 31,327
100 Underserved Counties/Colonias |  | 1,720
Empowerment Zones and Enterprise Community Set-Aside |  | 628
General Reserve |  | 734
Total |  | 34,409

HCFP—Fiscal Year 2008—Section 504 Direct Rural Housing Grants
[Allocation in thousands]
State | State basic formula factor | Total FY 2008 allocation
1 ALABAMA | 0.02895129 | $742
60 ALASKA | 0.00683910 | 175
2 ARIZONA | 0.01822198 | 467
3 ARKANSAS | 0.02307817 | 591
4 CALIFORNIA | 0.04712512 | 1,208
5 COLORADO | 0.01159403 | 297
6 CONNECTICUT | 0.00371268 | 95
7 DELAWARE | 0.00293163 | 75
9 FLORIDA | 0.03041312 | 779
10 GEORGIA | 0.03661908 | 939
61 HAWAII | 0.00731435 | 187
12 IDAHO | 0.00852842 | 219
13 ILLINOIS | 0.02641754 | 677
15 INDIANA | 0.02405959 | 617
16 IOWA | 0.01786210 | 458
18 KANSAS | 0.01364909 | 350
20 KENTUCKY | 0.02688977 | 689
22 LOUISIANA | 0.02413924 | 619
23 MAINE | 0.01074827 | 275
24 MARYLAND | 0.00927164 | 238
25 MASSACHUSETTS | 0.00548024 | 140
26 MICHIGAN | 0.03302491 | 846
27 MINNESOTA | 0.02348925 | 602
28 MISSISSIPPI | 0.02699213 | 692
29 MISSOURI | 0.02801252 | 718
31 MONTANA | 0.00736568 | 189
32 NEBRASKA | 0.00983363 | 252
33 NEVADA | 0.00359134 | 92
34 NEW HAMPSHIRE | 0.00589663 | 151
35 NEW JERSEY | 0.00461712 | 118
36 NEW MEXICO | 0.01420178 | 364
37 NEW YORK | 0.03156987 | 809
38 NORTH CAROLINA | 0.05019393 | 1,286
40 NORTH DAKOTA | 0.00470192 | 121
41 OHIO | 0.03422496 | 877
42 OKLAHOMA | 0.02108316 | 540
43 OREGON | 0.01770850 | 454
44 PENNSYLVANIA | 0.04090487 | 1,048
63 PUERTO RICO | 0.01023070 | 262
45 RHODE ISLAND | 0.00074832 | 19
46 SOUTH CAROLINA | 0.02591134 | 664
47 SOUTH DAKOTA | 0.00723669 | 185
48 TENNESSEE | 0.02972644 | 762
49 TEXAS | 0.07876808 | 2,019
52 UTAH | 0.00493463 | 126
53 VERMONT | 0.00527848 | 135
64 VIRGIN ISLANDS | 0.00243791 | 62
54 VIRGINIA | 0.02623675 | 672
56 WASHINGTON | 0.01980392 | 508
62 WEST PAC ISLANDS | 0.00280568 | 500
57 WEST VIRGINIA | 0.01559911 | 400
58 WISCONSIN | 0.02514997 | 645
59 WYOMING | 0.00385395 | 99
State Totals | 26,054
100 Underserved Counties/Colonias | 1,490
Empowerment Zones and Enterprise Community Set-Aside | 596
General Reserve | 1,650
Total | 29,790

HCFP—Fiscal Year 2008—Underserved and Colonias Funds
[Allocation in thousands]
Underserved state | Sum of rural populations | Percentage | Weight | 502 Direct | 502 VL (45%) | 502 Low (55%) | 504 Loan | 504 Grant
Alabama | 34,310 | 2.62 | 3 | $1,121 | $505 | $617 | $34 | $30
Alaska | 29,320 | 2.24 | 3 | 1,121 | 505 | 617 | 34 | 30
Hawaii | 33,480 | 2.56 | 3 | 1,121 | 505 | 617 | 34 | 30
Arizona | 217,690 | 16.63 | 5 | 1,869 | 841 | 1,028 | 57 | 50
California | 69,640 | 5.32 | 4 | 1,495 | 673 | 822 | 46 | 40
Colorado | 3,670 | 0.28 | 1 | 374 | 168 | 206 | 11 | 10
Florida | 72,310 | 5.52 | 4 | 1,495 | 673 | 822 | 46 | 40
Georgia | 14,230 | 1.09 | 2 | 748 | 336 | 411 | 23 | 20
Idaho | 1,030 | 0.08 | 1 | 374 | 168 | 206 | 11 | 10
Louisiana | 36,260 | 2.77 | 3 | 1,121 | 505 | 617 | 34 | 30
Mississippi | 92,260 | 7.05 | 4 | 1,495 | 673 | 822 | 46 | 40
Montana | 32,540 | 2.49 | 3 | 1,121 | 505 | 617 | 34 | 30
Nebraska | 7,160 | 0.55 | 1 | 374 | 168 | 206 | 11 | 10
New Mexico | 57,970 | 4.43 | 4 | 1,495 | 673 | 822 | 46 | 40
North Dakota | 17,550 | 1.34 | 2 | 748 | 336 | 411 | 23 | 20
West Pac Islands | 5,920 | 0.45 | 1 | 374 | 168 | 206 | 11 | 10
Puerto Rico | 301,960 | 23.07 | 5 | 1,869 | 841 | 1,028 | 57 | 50
South Dakota | 41,840 | 3.20 | 3 | 1,121 | 505 | 617 | 34 | 30
Texas | 189,070 | 14.45 | 5 | 1,869 | 841 | 1,028 | 57 | 50
Virgin Islands | 50,580 | 3.86 | 3 | 1,121 | 505 | 617 | 34 | 30
| 1,308,790 | 100.00 | 60 | 22,430 | 10,093 | 12,336 | 688 | 596
Subtotal |  |  |  |  |  | 22,430 | 688 | 596
Reserve |  |  |  |  |  | 11,215 | 344 | 298
Colonias |  |  |  |  |  | 22,430 | 688 | 596
Total FY 08 |  |  |  |  |  | 56,074 | 1,720 | 1,490
Base Allocation |  |  |  |  |  | 373.83 | 11.47 | 9.93

COLONIAS | 502 Direct | 502 VL | 502 Low | 504 Loan | 504 Grant
Arizona | 5,607 | 2,523 | 3,084 | 172 | 149
California | 5,607 | 2,523 | 3,084 | 172 | 149
New Mexico | 5,607 | 2,523 | 3,084 | 172 | 149
Texas | 5,607 | 2,523 | 3,084 | 172 | 149
Total | 22,430 | 10,093 | 12,336 | 688 | 596

HCFP—Fiscal Year 2008—Empowerment Zone, Enterprise Community and Rural Economic Partnership Funds
[Allocation in thousands]
State | No. | 502 VL EZ/EC/REAP amount | 502 Low EZ/EC/REAP amount | 504 Loan EZ/EC/REAP amount
AK | 1 | $115 | $135 | $15
AZ | 1 | 115 | 135 | 15
CA | 2 | 230 | 270 | 30
FL | 1 | 115 | 135 | 15
GA | 1 | 115 | 135 | 15
HI | 1 | 115 | 135 | 15
IL | 1 | 115 | 135 | 15
IN | 1 | 115 | 135 | 15
KS | 1 | 115 | 135 | 15
KY | 2 | 230 | 270 | 30
ME | 2 | 230 | 270 | 30
MI | 1 | 115 | 135 | 15
MO | 1 | 115 | 135 | 15
MS | 1 | 115 | 135 | 15
MT | 1 | 115 | 135 | 15
ND | 3 | 345 | 405 | 45
NM | 1 | 115 | 135 | 15
NY | 2 | 230 | 270 | 30
OK | 1 | 115 | 135 | 15
PA | 1 | 115 | 135 | 15
SC | 1 | 115 | 135 | 15
SD | 1 | 115 | 135 | 15
TN | 1 | 115 | 135 | 15
TX | 2 | 230 | 270 | 30
VT | 1 | 115 | 135 | 15
WA | 1 | 115 | 135 | 15
WI | 1 | 115 | 135 | 15
WV | 1 | 115 | 135 | 15
Reserve |  | 4,065 | 5,163 | 103
Available | 35 | 8,090 | 9,888 | 627

HCFP—Fiscal Year 2008—Section 502 Guaranteed Purchase 2005 Hurricane Disaster Loans (Nonsubsidized)
[Allocation in actual dollars]
State | State basic formula factor | Total FY 2008 allocation
Alabama | N/A | $28,313,769
Alaska | N/A | 0
Arizona | N/A | 0
Arkansas | N/A | 0
California | N/A | 0
Colorado | N/A | 0
Connecticut | N/A | 0
Delaware | N/A | 0
Florida | N/A | 28,313,769
Georgia | N/A | 0
Hawaii | N/A | 0
Idaho | N/A | 0
Illinois | N/A | 0
Indiana | N/A | 0
Iowa | N/A | 0
Kansas | N/A | 0
Kentucky | N/A | 0
Louisiana | N/A | 356,753,491
Maine | N/A | 0
Maryland | N/A | 0
Massachusetts | N/A | 0
Michigan | N/A | 0
Minnesota | N/A | 0
Mississippi | N/A | 237,835,660
Missouri | N/A | 0
Montana | N/A | 0
Nebraska | N/A | 0
Nevada | N/A | 0
New Hampshire | N/A | 0
New Jersey | N/A | 0
New Mexico | N/A | 0
New York | N/A | 0
North Carolina | N/A | 0
North Dakota | N/A | 0
Ohio | N/A | 0
Oklahoma | N/A | 0
Oregon | N/A | 0
Pennsylvania | N/A | 0
Puerto Rico | N/A | 0
Rhode Island | N/A | 0
South Carolina | N/A | 0
South Dakota | N/A | 0
Tennessee | N/A | 0
Texas | N/A | 28,313,769
Utah | N/A | 0
Vermont | N/A | 0
Virgin Islands | N/A | 0
Virginia | N/A | 0
Washington | N/A | 0
West Pac | N/A | 0
West Virginia | N/A | 0
Wisconsin | N/A | 0
Wyoming | N/A | 0
State Totals |  | 679,530,458
National Office Reserve |  | 75,503,383
Total |  | 755,033,841
** Includes FY 2007 Carryover.

[FR Doc. E8-6332 Filed 3-27-08; 8:45 am]

BILLING CODE 3410-XV-P